DEPARTMENT OF HEALTH AND HUMAN SERVICES

Centers for Disease Control and Prevention

Advisory Board on Radiation and Worker Health (ABRWH); Meeting

ACTION: Publication of closed meeting summary of the Advisory Board on Radiation and Worker Health (ABRWH), National Institute for Occupational Safety and Health (NIOSH).

Committee Purpose: This board is charged with (a) providing advice to the Secretary, HHS on the development of guidelines under Executive Order 13179; (b) providing advice to the Secretary, HHS on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Background: The Advisory Board on Radiation and Worker Health met on January 8, 2003, in closed session to discuss the Proposed Independent Government Cost Estimate (IGCE) for a contract. This contract, once awarded, will provide technical support to assist the Board in fulfilling its statutory duty to advise the Secretary of Health and Human Services regarding the dose reconstruction efforts under the Energy Employees Occupational Illness Compensation Program Act. A Determination to Close the meeting was approved and published, as required by the Federal Advisory Committee Act.

Summary of the Meeting: Attendance was as follows:

Board Members:

Paul L. Ziemer, Ph.D., Chair

Larry J. Elliott, Executive Secretary

Henry A. Anderson, M.D., Member

Antonio Andrade, Ph.D., Member

Roy L. DeHart, M.D., M.P.H., Member

Richard L. Espinosa, Member

Michael H. Gibson, Member

Mark A. Griffon, Member

James M. Melius, M.D., Dr.P.H., Member

Robert W. Presley, Member

Genevieve S. Roessler, Ph.D., Member

NIOSH Staff:

Jim Neton

David Naimon

Liz Homoki-Titus

Martha DiMuzio

Cori Homer

Ray S. Green, Court Recorder.

Summary/Minutes

Dr. Ziemer called to order the Advisory Board on Radiation and Worker Health (ABRWH) in closed session on January 8, 2003 at 9:45 a.m. The purpose of the closed meeting was to develop the Independent Government Cost Estimate for a contract to provide technical support to the ABRWH review of completed dose reconstructions.

Dr. Ziemer noted that Ms. Wanda Munn and Mr. Leon Owens were not available to attend and could not be connected via conference call due to telephone line security issues.

General topics discussed:

• Closed session procedures.

• Independent Government Cost Estimate.

• Member of Board to be appointed to the Technical Review Panel for this procurement.

Dr. Paul Ziemer adjourned the closed session of the ABRWH meeting at 11:18 a.m. with no further business being conducted by the ABRWH.

SUPPLEMENTARY INFORMATION: The Advisory Board on Radiation and Worker Health (“the Board”) was established under the Energy Employees Occupational Illness Compensation Program Act (EEOICPA) of 2000 to advise the President, through the Secretary of Health and Human Services (HHS), on a variety of policy and technical functions required to implement and effectively manage the new compensation program. Key functions of the Board include providing advice on the development of probability of causation guidelines which have been promulgated by HHS as a final rule, advice on methods of dose reconstruction which have also been promulgated by HHS as a final rule, evaluation of the scientific validity and quality of dose reconstructions conducted by the National Institute for Occupational Safety and Health (NIOSH) for qualified cancer claimants, and advice on the addition of classes of workers to the Special Exposure Cohort.

In December 2000 the President delegated responsibility for funding, staffing, and operating the Board to HHS, which subsequently delegated this authority to the CDC. NIOSH implements this responsibility for CDC. The charter was signed on August 3, 2001 and in November, 2001, the President completed the appointment of an initial roster of 10 Board members. In April, and again in August 2002, the President appointed additional members to ensure more balanced representation on the Board.

FOR FURTHER INFORMATION CONTACT: Larry Elliott, Executive Secretary, ABRWH, NIOSH, CDC, 4676 Columbia Parkway, Cincinnati, Ohio 45226, telephone 513/841-4498, fax 513/458-7125.

The Director, Management Analysis and Services Office, has been delegated the authority to sign Federal Register notices pertaining to announcements of meetings and other committee management activities for both the Centers for Disease Control and Prevention and the Agency for Toxic Substances and Disease Registry.

Dated: January 30, 2003.
Joseph E. Slater,
Acting Director, Management Analysis and Services Office, Centers for Disease Control and Prevention.

[FR Doc. 03-2652 Filed 2-4-03; 8:45 am]

BILLING CODE 4163-19-P